DEPARTMENT OF TRANSPORTATION

National Highway Traffic Safety Administration

[U.S. DOT Docket No. NHTSA-2019-0051]

Agency Information Collection Activities; Notice and Request for Comments; Effects of Education on Speeding Behavior

AGENCY: National Highway Traffic Safety Administration (NHTSA), DOT.

ACTION: Request for public comment on a proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections. This document describes an Information Collection Request (ICR) for which NHTSA intends to seek OMB approval.

DATES: Comments must be received on or before October 29, 2019.

ADDRESSES: You may submit comments identified by DOT Docket ID Number NHTSA-2019-0051 using any of the following methods:

Electronic Submissions: Go to http://www.regulations.gov. Follow the on-line instructions for submitting comments.

Mail: Docket Management Facility, M-30, U.S. Department of Transportation, 1200 New Jersey Avenue SE, West Building Ground Floor, Room W12-140, Washington, DC 20590.

Hand Delivery: West Building Ground Floor, Room W12-140, 1200 New Jersey Avenue SE, Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Kathy Sifrit, Ph.D., Contracting Officer's Representative, Office of Behavioral Safety Research (NPD-320), National Highway Traffic Safety Administration, 1200 New Jersey Avenue SE, W46-472, Washington, DC 20590. Dr. Sifrit's phone number is 202-366-0868, and her email address is kathy.sifrit@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

iv) How to minimize the burden of the collection of information on those who are to respond, including the use of appropriate automated, electronic, mechanical, or other technological collection techniques or other forms of information technology, e.g., permitting electronic submission of responses.

In compliance with these requirements, NHTSA asks for public comment on the following proposed collection of information:

Title: Effects of Education on Speeding Behavior.

OMB Clearance Number: New.

Type of Review Requested: Regular.

Form Number: NHTSA Form 1492, NHTSA Form 1493, NHTSA Form 1494, NHTSA Form 1495, NHTSA Form 1496, and NHTSA Form 1497.

Type of Information Collection Request: Approval of a new information collection.

Requested Expiration Date of Approval: 3 years from date of approval.

Abstract: The National Highway Traffic Safety Administration (NHTSA) of the U.S. Department of Transportation is seeking approval to collect information from licensed drivers who have at least one speeding citation or conviction in the previous three years for a one-time voluntary study of the effects of an education course being developed that covers vehicle speeds, laws, and the risks of speeding on speeding behavior. NHTSA proposes to approach up to 250 drivers appearing at the Wake County, NC district court because of speeding infractions to ascertain their interest in participating in the study after their case has been adjudicated. Of those 250, we expect to collect information from 150 potential participants determine their eligibility for the study with the goal of recruiting 100 voluntary participants. The 100 participants will complete an informed consent form, three driver speeding questionnaires (before the course, right after the course, and one month after the course) to explore the effects of the course on their attitudes and beliefs regarding speeding as well as their tendency to speed, a course evaluation, and sensation-seeking questionnaire to measure psychological factors related to risky behaviors. In addition, NHTSA will collect naturalistic driving data, which involves unobtrusive observation of driving in a natural, on-road setting using a vehicle instrumented with position, speed, and other sensors. This collection is solely reporting, and there are no record-keeping costs to the respondents. NHTSA will use the information to produce a technical report that presents the results of the study. The technical report will provide aggregate (summary) statistics and tables as well as the results of statistical analysis of the information, but it will not include any personal information. The technical report will be shared with State highway offices, local governments, and those who develop driver education and traffic safety communications that aim to reduce speed-related crashes. The total estimated burden for recruiting 250 participants (42 hours), for screening 150 participants (23 hours) and for 100 participants to complete the study (600 hours) is 665 total hours.

Respondents: Participation in this study will be voluntary, and 100 participants will be recruited from drivers that attend the Wake County, NC district court because of speeding infractions after their case has been adjudicated. An estimated 250 people will be approached and have the study described to them, and 150 people will be screened to recruit the 100 who will complete the study. Participants will be licensed drivers over 18 years old who have had a speeding citation in the past 3 years.

Estimated Time per Participant: The estimated time for recruiting 250 possible participants is 10 minutes per person. The estimated time for screening the 150 possible participants is nine minutes per person to complete the screener questionnaire and provide contact information. The estimated time for the 100 study participants is six hours per person to complete the informed consent, take the three-hour and 30-minute course, complete all questionnaires, and wait for equipment to be installed and uninstalled from their vehicles.

Total Estimated Burden Hours: The total estimated annual burden is 665 hours for the project activities. Participation in this study is voluntary, and there are no costs to respondents beyond the time spent completing the questionnaires and visits to the study facility.

Frequency of Collection: This study is one-time data collection, and there will be no recurrence.

Description of the Need for the Information and Proposed Use of the Information: NHTSA was established to reduce deaths, injuries, and economic losses resulting from motor vehicle crashes on the Nation's highways. As part of this statutory mandate, NHTSA is authorized to conduct research for the development of traffic safety programs. In 2017, there were 9,717 fatalities in speeding-related crashes—26% of all fatal crashes. Public information and education are important elements of any effective speed management program. Recent NHTSA research has indicated that many drivers feel they lack sufficient knowledge about speeding and would like more information on stopping distances, laws, and risks involved. This project is designed to examine the effectiveness of basic driver education covering speed, laws, and risks of speeding in changing driver attitudes and behaviors regarding speeding. This information will be useful to State highway offices, local governments, and those who develop driver education and traffic safety communications that aim to reduce speed-related crashes.

Authority: 44 U.S.C. Section 3506(c)(2)(A).

Issued in Washington, DC.
Jon Krohmer,
Associate Administrator, Acting, Research and Program Development.

[FR Doc. 2019-18782 Filed 8-29-19; 8:45 am]

BILLING CODE 4910-59-P